SECURITIES AND EXCHANGE COMMISSION

[OMB Control No. 3235-0675, SEC File No. 270-620]

Submission for OMB Review; Comment Request

Correction

In notice document 2014-06126, appearing on page 15616 in the issue of Thursday, March 20, 2014, make the following correction:

On page 15616, in the second column, immediately following the subject, insert the following text:

Upon Written Request Copies Available From: Securities and Exchange Commission, Office of Investor Education and Advocacy, Washington, DC 20549-0213.

[FR Doc. C1-2014-06126 Filed 3-27-14; 8:45 am]

BILLING CODE 1505-01-D